DEPARTMENT OF COMMERCE

International Trade Administration

[A-560-836]

Mattresses From Indonesia: Final Results and Partial Rescission of Antidumping Duty Administrative Review; 2022-2023

AGENCY: Enforcement and Compliance, International Trade Administration, Department of Commerce.

SUMMARY: The U.S. Department of Commerce (Commerce) determines that PT Ecos Jaya Indonesia and PT Grantec Jaya Indonesia (collectively, Ecos/Grantec) and one non-individually examined company made sales of subject merchandise in the United States at prices below normal value (NV) during the period of review (POR), May 1, 2022, through April 30, 2023. Additionally, Commerce determines that PT. Zinus Global Indonesia (Zinus Indonesia) did not make sales of mattresses from Indonesia at prices below NV during the POR. Moreover, we are rescinding this review with respect to one company that withdrew its request for review and 29 companies that had no reviewable entries during the POR.

DATES: Applicable November 19, 2024.

FOR FURTHER INFORMATION CONTACT: Brian Smith or Noah Wetzel, AD/CVD Operations, Office VIII, Enforcement and Compliance, International Trade Administration, U.S. Department of Commerce, 1401 Constitution Avenue NW, Washington, DC 20230; telephone: (202) 482-1766 or (202) 482-7466, respectively.

SUPPLEMENTARY INFORMATION:

Background

On June 3, 2024, Commerce published the Preliminary Results of this administrative review and invited interested parties to comment.¹ On July 23, 2024, Commerce tolled certain deadlines in this administrative proceeding by seven days.² On October 2, 2024, Commerce extended the deadline for the final results of this administrative review until November 12, 2024.³ For a summary of the events that occurred since the Preliminary Results, see the Issues and Decision Memorandum.⁴ Commerce conducted this review in accordance with section 751 of the Tariff Act of 1930, as amended (the Act).

¹ See Mattresses from Indonesia: Preliminary Results of Antidumping Duty Administrative Review; 2022-2023, 89 FR 47528 (June 3, 2024) (Preliminary Results), and accompanying Preliminary Decision Memorandum.

² See Memorandum, “Tolling of Deadlines for Antidumping and Countervailing Duty Proceedings,” dated July 23, 2024.

³ See Memorandum, “Extension of Deadline for Final Results of 2022-2023 Antidumping Duty Administrative Review,” dated October 2, 2024.

⁴ See Memorandum, “Issues and Decision Memorandum for the Final Results of the 2022-2023 Antidumping Duty Administrative Review: Mattresses from Indonesia,” dated concurrently with, and hereby adopted by, this notice (Issues and Decision Memorandum).

Scope of the Order ⁵

⁵ See Mattresses from Cambodia, Indonesia, Malaysia, Serbia, Thailand, Republic of Turkey, and the Socialist Republic of Vietnam: Antidumping Duty Orders and Amended Final Affirmative Antidumping Determination for Cambodia, 86 FR 26460 (May 14, 2021) (Order).

The merchandise covered by this Order is mattresses from Indonesia. A full description of the scope of the Order is contained in the Issues and Decision Memorandum.

Analysis of Comments Received

We addressed all issues raised in the case and rebuttal briefs filed in this administrative review in the Issues and Decision Memorandum. A list of the issues addressed in the Issues and Decision Memorandum is included in appendix I. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade/gov/public/FRNoticesListLayout.aspx.

Changes Since the Preliminary Results

Based on an analysis of the comments received, we made one change to the margin calculation in the Preliminary Results for Ecos/Grantec.⁶

⁶ See Issues and Decision Memorandum at 4.

Partial Rescission

Pursuant to 19 CFR 351.213(d)(1), Commerce will rescind an administrative review, in whole or in part, if all parties who requested a review withdraw their requests within 90 days of the date that the notice of initiation of the requested review was published in the Federal Register. In the Preliminary Results, we intended to rescind this review with respect to PT Champion Mattress Indonesia Manufacturing (PTC) because PTC had timely withdrawn its request for review and no other interested party requested a review of this company. However, because we inadvertently did not rescind this review with respect to PTC in the Preliminary Results, we issued an intent-to-rescind memorandum and provided interested parties with the opportunity to comment on this matter.⁷

⁷ See Memorandum, “Notice of Intent to Rescind Review, in Part,” dated June 4, 2024.

Because PTC timely withdrew its request for review of itself and no other parties requested a review of PTC, Commerce is rescinding this administrative review with respect to PTC.

Pursuant to 19 CFR 351.213(d)(3), when there are no reviewable entries of subject merchandise during the POR subject to the antidumping duty order for which liquidation is suspended, Commerce may also rescind an administrative review, in whole or only with respect to a particular exporter or producer.⁸ At the end of the administrative review, any suspended entries are liquidated at the assessment rate computed for the review period.⁹ Therefore, for an administrative review to be conducted, there must be a reviewable, suspended entry to be liquidated at the newly calculated assessment rate. On October 3, 2024, Commerce informed interested parties that it intended to rescind this review with respect to 29 companies because those companies had no reviewable, suspended entries of subject merchandise and invited parties to comment.¹⁰ We received no comments on our preliminary rescission of the review with respect to these companies. Accordingly, in the absence of suspended entries of subject merchandise during the POR for these 29 companies for which this review was initiated, we are hereby rescinding this administrative review, in part, with respect to these companies, in accordance with 19 CFR 351.213(d)(3).¹¹

⁸ See, e.g., Forged Steel Fittings from Taiwan: Rescission of Antidumping Duty Administrative Review; 2018-2019, 85 FR 71317, 71318 (November 9, 2020); see also Certain Circular Welded Non-Alloy Steel Pipe from Mexico: Rescission of Antidumping Duty Administrative Review; 2016-2017, 83 FR 54084 (October 26, 2018).

⁹ See 19 CFR 351.212(b)(1).

¹⁰ See Memorandum, “Notice of Intent to Rescind Review, in Part,” dated October 3, 2024.

¹¹ See appendix II, where all companies for which we have rescinded this review are listed.

Rate for Non-Examined Respondent

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review.

Under section 735(c)(5)(A) of the Act, the all-others rate is normally “an amount equal to the weighted average of the estimated weighted-average dumping margins established for exporters and producers individually investigated, excluding any zero or de minimis margins, and any margins determined entirely {on the basis of facts available}.” We calculated a dumping margin for Ecos/Grantec that is not zero, de minimis, or determined entirely on the basis of facts available. Accordingly, we assigned a margin of 30.32 percent based on Ecos/Grantec's calculated weighted-average dumping margin to the non-selected respondent, PT Graha Seribusatujaya.

Final Results of Review

We determine that the following weighted-average dumping margins exist for the POR:

Exporter or producer | Weighted- average dumping margin (percent)
PT Ecos Jaya Indonesia/PT Grantec Jaya Indonesia ¹² | 30.32
PT. Zinus Global Indonesia | 0.00
PT Graha Seribusatujaya | 30.32

The final results of this review shall be the basis for the assessment of antidumping duties on entries of merchandise covered by the final results of this review and for future deposits of estimated duties, where applicable.¹³

¹² We are treating these companies as a single entity for purposes of this review. For a complete discussion, see Memorandum, “Affiliation and Collapsing of PT Ecos Jaya Indonesia and PT Grantec Jaya Indonesia,” dated December 8, 2022.

¹³ See section 751(a)(2)(C) of the Act.

Disclosure

We intend to disclose the calculations performed for these final results of review to interested parties within five days of the date of publication of this notice in the Federal Register, in accordance with 19 CFR 351.224(b).

Assessment Rates

Pursuant to section 751(a)(2)(C) of the Act and 19 CFR 351.212(b), Commerce has determined, and U.S. Customs and Border Protection (CBP) shall assess, antidumping duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Pursuant to 19 CFR 351.212(b)(1), where the respondent Ecos/Grantec reported the entered value for their U.S. sales, we calculated importer-specific ad valorem duty assessment rates based on the ratio of the total amount of antidumping duties calculated for the examined sales to the total entered value of those sales. Where Ecos/Grantec did not report entered value, we calculated an importer-specific, per-unit assessment rate based on the ratio of the total amount of dumping calculated for the importer's examined sales to the total quantity of those sales. For Zinus Indonesia, whose weighted-average dumping margin is zero, and for any importers whose importer-specific assessment rate is zero or de minimis, we will instruct CBP to liquidate the appropriate entries without regard to antidumping duties.¹⁴

¹⁴ See Antidumping Proceedings: Calculation of the Weighted-Average Dumping Margin and Assessment Rate in Certain Antidumping Proceedings; Final Modification, 77 FR 8101, 8102 (February 14, 2012).

Commerce's “automatic assessment” practice will apply to entries of subject merchandise during the POR produced by Ecos/Grantec or Zinus Indonesia for which the reviewed companies did not know that the merchandise they sold to the intermediary (e.g., a reseller, trading company, or exporter) was destined for the United States. In such instances, we will instruct CBP to liquidate unreviewed entries at the all-others rate if there is no rate for the intermediate company(ies) involved in the transaction.¹⁵

¹⁵ For a full discussion of this practice, see Antidumping and Countervailing Duty Proceedings: Assessment of Antidumping Duties, 68 FR 23954 (May 6, 2003).

For the company that was not selected for individual review, we assigned an assessment rate calculated as noted in the “Rate for Non-Examined Respondent” section, above.

For the companies for which this review is rescinded with these final results (see appendix II), we will instruct CBP to assess antidumping duties on any suspended entries at a rate equal to the cash deposit of estimated antidumping duties required at the time of entry, or withdrawal from warehouse, for consumption, during the POR, in accordance with 19 CFR 351.212(c)(1)(i).

Cash Deposit Requirements

The following cash deposit requirements will be effective for all shipments of subject merchandise entered, or withdrawn from warehouse, for consumption on or after the date of publication of the final results of this administrative review, as provided by section 751(a)(2)(C) of the Act: (1) the cash deposit rates for the reviewed companies will be equal to the weighted-average dumping margin established in the final results of this review; (2) for producers or exporters not covered in this review but covered in a prior completed segment of the proceeding, the cash deposit rate will continue to be the company-specific rate published in the most recently completed segment; (3) if the exporter is not a firm covered in this review, a prior review, or the original less-than-fair-value (LTFV) investigation, but the producer is, then the cash deposit rate will be the rate established in the most recently completed segment for the producer of the merchandise; (4) the cash deposit rate for all other producers or exporters will continue to be 2.22 percent, the all-others rate established in the LTFV investigation in this proceeding.¹⁶ These cash deposit requirements, when imposed, shall remain in effect until further notice.

¹⁶ See Order.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a) and 777(i) of the Act, and 19 CFR 351.221(b)(5).

Dated: November 12, 2024.
Abdelali Elouaradia,
Deputy Assistant Secretary for Enforcement and Compliance.

Appendix I

List of Topics Discussed in the Issues and Decision Memorandum

I. Summary

II. Background

III. Scope of the Order

IV. Changes Since the Preliminary Results

V. Discussion of the Issues

Comment 1: Treatment of Disputed Expenses

Comment 2: Application of the Transactions Disregarded Rule

VI. Recommendation

Appendix II

List of Companies for Which We Are Rescinding the Administrative Review

1. Bali Natural Latex

2. CV. Aumireta Anggun

3. CV. Lautan Rezeki

4. Duta Abadi Primantara, Pt

5. Ecos Jaya JL Pasir Awi

6. Mimpi

7. P.T. Barat Daya Gemilang

8. PT Celebes Putra Prima

9. PT Champion Mattress Indonesia Manufacturing

10. PT Demak Putra Mandiri

11. PT Graha Anom Jaya

12. PT Kline Total Logistics Indonesia

13. PT Rubberfoam Indonesia

14. PT Solo Murni Epte

15. PT. Ateja Multi Industri

16. PT. Ateja Tritunggal

17. PT. Aurora World Cianjur

18. PT. Cahaya Buana Furindotama

19. PT. CJ Logistics Indonesia

20. PT. Dinamika Indonusa Prima

21. PT. Dunlopillo Indonesia

22. PT. Dynasti Indomegah

23. PT. Massindo International

24. PT. Ocean Centra Furnindo

25. PT. Quantum Tosan Internasional

26. PT. Romance Bedding & Furniture

27. PT. Royal Abadi Sejahtera

28. PT. Transporindo Buana Kargotama

29. Sonder Canada Inc

30. Super Poly Industry PT

[FR Doc. 2024-26906 Filed 11-18-24; 8:45 am]

BILLING CODE 3510-DS-P